DEPARTMENT OF HEALTH AND HUMAN SERVICES

Administration for Children and Families

[CFDA Number: 93.652]

Announcing the Award of a Single-Source Program Expansion Supplement to University of Denver (Colorado Seminary), in Denver, CO, for the Capacity Building Center for Tribes

AGENCY: Children's Bureau, Administration on Children, Youth and Families, ACF, HHS.

ACTION: Notice of the award of a single-source program expansion supplement to University of Denver (Colorado Seminary)to expand the Capacity Building Center for Tribes.

SUMMARY: The Administration for Children and Families (ACF), Administration on Children, Youth and Families (ACYF), Children's Bureau (CB), announces the award of a single-source program expansion supplement in the amount of $350,000 to University of Denver (Colorado Seminary), Denver, CO, for the expansion of the Capacity Building Center for Tribes (CBCT) to provide expanded tailored technical assistance to Tribes across the nation and allow for expanded and enhanced collaboration with the other centers that form the Child Welfare Capacity Building Collaborative.

DATES: The expansion supplement will support project activities from September 30, 2015 through September 29, 2016.

FOR FURTHER INFORMATION CONTACT: Roshanda Shoulders, Tribal Specialist, Children's Bureau, 330 C Street SW., Washington, DC 20201. Telephone: 202-205-8709; Email: roshanda.shoulders@acf.hhs.gov.

SUPPLEMENTARY INFORMATION: CB announces the award of a single-source program expansion supplement in the amount of $350,000 to University of Denver (Colorado Seminary), Denver, CO, for the expansion of the Capacity Building Center for Tribes (CBCT) to provide expanded tailored technical assistance to Tribes across the nation and allow for expanded and enhanced collaboration with the other centers that form the Child Welfare Capacity Building Collaborative. The Center will also utilize the supplemental funds to increase its collaborative efforts with other CB supported capacity building providers to improve child welfare systems in achieving measurable, sustainable systemic change that results in greater safety, permanency, and well-being for children, youth, and families.

The supplement also will support successful engagement and support to Title IV-E and IV-B Tribes in continuous quality improvement efforts, the quality of permanency efforts, and assist Tribal agencies in designing, implementing and testing innovations to build evidence of effective practices, interventions, and models. The CBCT will also utilize the supplement to expand and enhance its collaborative work and activities with and within the Child Welfare Capacity Building Collaborative and the Center for States and Center for Courts, specifically, to support joint work toward shared outcomes.

University of Denver (Colorado Seminary) is uniquely positioned to expand this project as a result of their work as the current grantee to launch and operate the Capacity Building Center for Tribes. The project is currently in its inaugural year.

Statutory Authority: The statutory authority is the Adoption Opportunities Program, section 203 (42 U.S.C. 5113) of the Child Abuse Prevention and Treatment and Adoption Reform Act of 1978, (Pub. L. 95-266), as amended by the Keeping Children and Families Safe Act of 2003 (Pub. L. 108-36).

Christopher Beach,
Senior Grants Policy Specialist, Division of Grants Policy, Office of Administration.

[FR Doc. 2016-08544 Filed 4-13-16; 8:45 am]

BILLING CODE 4184-25-P